DEPARTMENT OF AGRICULTURE

Food Safety and Inspection Service

[Docket No. FSIS-2006-0016]

Codex Alimentarius Commission: 29th Session of the Codex Alimentarius Commission

AGENCY: Office of the Under Secretary for Food Safety, USDA.

ACTION: Notice of public meeting and request for comments.

SUMMARY: The Office of the Under Secretary for Food Safety, U.S. Department of Agriculture (USDA) is sponsoring a public meeting on June 15, 2006. The objective of the public meeting is to provide information and receive public comments on agenda items and draft United States' positions that will be discussed at the 29th Session of the Codex Alimentarius Commission (CAC), that will be held in Geneva, Switzerland, July 3-7, 2006. The Under Secretary for Food Safety recognizes the importance of providing interested parties the opportunity to obtain background information on the 29th Session of CAC and to address items on the agenda.

DATES: The public meeting is scheduled for Thursday, June 15, 2006 from 1 p.m. to 4 p.m.

ADDRESSES: The public meeting will be held in Room 107-A, J.L. Whitten Building, U.S. Department of Agriculture, 1400 Independence Avenue, SW., Washington, DC. Documents related to the 29th Session of the CAC will be accessible via the World Wide Web at the following address: http://www.codexalimentarius.net/current.asp.

The Food Safety and Inspection Service (FSIS) invites interested persons to submit comments on this notice. Comments may be submitted by any of the following methods:

Federal eRulemaking Portal: This Web site provides the ability to type short comments directly into the comment field on this Web page or attach a file for lengthier comments. Go to http://www.regulations.gov and, in the “Search for Open Regulations” box, select “Food Safety and Inspection Service” from the agency drop-down menu, then click on “Submit.” In the Docket ID column, select the FDMS Docket Number FSIS-2006-0016 to submit or view public comments and to view supporting and related materials available electronically.

Mail, including floppy disks or CD-ROM's, and hand- or courier-delivered items: Send to FSIS Docket Room, Docket Clerk, USDA, Food Safety and Inspection Service (FSIS), 300 12th Street, SW., Room 102, Cotton Annex Building, Washington, DC 20250.

Electronic mail: fsis.regulationscomments@fsis.usda.gov.

All submissions received must include the Agency name and docket number FSIS-2006-0016.

All comments submitted in response to this notice, as well as research and background information used by FSIS in developing this document, will be posted to the regulations.gov Web site. The background information and comments also will be available for public inspection in the FSIS Docket Room at the address listed above between 8:30 a.m. and 4:30 p.m., Monday through Friday.

For Further Information about the 29th Session of the CAC Contact: F. Edward Scarbrough, U.S. Manager for Codex, Office of the Under Secretary for Food Safety, U.S. Department of Agriculture, 1400 Independence Avenue, SW., Washington, DC 20250, Phone: (202) 205-7760, Fax: (202) 720-3157, E-mail: uscodex@fsis.usda.gov.

For Further Information about the Public Meeting Contact: Jasmine Matthews, U.S. Codex Office, Food Safety and Inspection Service, Room 4861, South Building, 1400 Independence Avenue, SW., Washington, DC 20250, Phone: (202) 205-7760, Fax: (202) 720-3157.

SUPPLEMENTARY INFORMATION:

Background

The Codex Alimentarius (Codex) was established in 1963 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to protect the health of consumers and ensure fair practices in trade.

The Codex Alimentarius Commission is responsible for making proposals to, and being consulted by, the Directors-General of the Food and Agriculture Organization (FAO) and the World Health Organization (WHO) on all matters pertaining to the implementation of the Joint FAO/WHO Food Standards Programme, the purpose of which is:

(a) Protecting the health of the consumers and ensuring fair practices in the food trade;

(b) Promoting coordination of all food standards work undertaken by international governmental and non governmental organizations;

(c) Determining priorities and initiating and guiding the preparation of draft standards through and with the aid of appropriate organizations;

(d) Finalizing standards elaborated under (c) above and publishing them in a Codex Alimentarius either as regional or world wide standards, together with international standards already finalized by other bodies under (b) above, wherever this is practicable; and

(e) Amending published standards, after appropriate survey, in the light of developments.

Issues To Be Discussed at the Public Meeting

The following items on the Agenda for the 29th Session of the CAC will be discussed during the public meeting:

• Election of Chairperson and Vice-Chairpersons of the Commission Report of the 57th Session of the Executive Committee.

• Amendments to the Procedural Manual.

• Draft Standards and Related Texts submitted to the Commission for Adoption.

• Proposed Draft Standards and Related Texts submitted at Step 5.

• Revocation of existing Codex Standards and Related Texts.

• Proposals for the Elaboration of new Standards and Related Texts and for the Discontinuation of Work.

• Strategic Planning of the Codex Alimentarius Commission.

• Implementation of the Joint FAO/WHO Evaluation of the Codex Alimentarius and other FAO and WHO Work on Food Standards—General Implementations Status.

• Review of the Codex Committee Structure and Mandates of Codex Committees and Task Forces.

• Matters arising from the Reports of the Commission, Codex Committees, and Task Forces.

• Relations between the Codex Alimentarius Commission and other International Organizations.

• FAO/WHO Project and Trust Fund for Enhanced Participation in Codex.

• Other Matters arising from FAO and WHO.

• Designation of Countries responsible for Appointing the Chairpersons of Codex Committees and Task Forces.

Each issue listed will be fully described in documents distributed, or to be distributed, by the Codex Secretariat prior to the Meeting. Members of the public may access or request copies of these documents via the World Wide Web at the following address: http://www.codexalimentarius.net/current.asp

Public Meeting

At the June 15th public meeting, draft U.S. positions on the agenda items will be described, discussed, and attendees will have the opportunity to pose questions and offer comments. Written comments may be offered at the meeting or sent to the U.S. Manager for Codexs, (see For Further Information About the 29th Session of the CAC Contact). Written comments should state that they relate to the activities of the 29th Session of the CAC.

Additional Public Notification

Public awareness of all segments of rulemaking and policy development is important. Consequently, in an effort to ensure that minorities, women, and persons with disabilities are aware of this notice, FSIS will announce it on-line through the FSIS Web Page located at http://www.fsis.usda.gov/regulations/2006_Notices_Index/. FSIS also will make copies of this Federal Register publication available through the FSIS Constituent Update, which is used to provide information regarding FSIS policies, procedures, regulations, Federal Register notices, FSIS public meetings, recalls and other types of information that could affect or would be of interest to constituents and stakeholders. The update is communicated via Listserv, a free electronic mail subscription service for industry, trade and farm groups, consumer interest groups, allied health professionals and other individuals who have asked to be included. The update is available on the FSIS Web page. Through the Listserv and Web page, FSIS is able to provide information to a much broader and more diverse audience. In addition, FSIS offers an electronic mail subscription service that provides an automatic and customized notification when popular pages are updated, including Federal Register publications and related documents. This service is available at http://fsis.usda.gov/news_and_events/email_subscription/ and allows FSIS-FAIM customers to sign up for subscription options in eight categories. Options range from recalls to export information to regulations, directives and notices. Customers can add or delete subscriptions themselves and have the option to protect their accounts with passwords.

Done at Washington, DC, on June 2, 2006.
F. Edward Scarbrough,
U.S. Manager for Codex Alimentarius.

[FR Doc. 06-5172 Filed 6-2-06; 11:47 am]

BILLING CODE 3410-DM-M